OFFICE OF THE UNITED STATES TRADE REPRESENTATIVE

15 CFR Part 2004

RIN 0350-AA13

Technical Amendment: Freedom of Information Act Policies and Procedures

AGENCY: Office of the United States Trade Representative (USTR).

ACTION: Interim final rule with request for comments.

SUMMARY: This rule makes a minor technical change to the USTR Freedom of Information Act (FOIA) regulation.

DATES: The interim final rule is effective on July 25, 2023. The deadline for the submission of written comments is August 24, 2023.

ADDRESSES: You should submit written comments to FOIA@ustr.eop.gov.

FOR FURTHER INFORMATION CONTACT: Janice Kaye or Monique Ricker at FOIA@ustr.eop.gov or 202-395-3150.

SUPPLEMENTARY INFORMATION:

I. Technical Change

On December 15, 2016, USTR published a final rule comprehensively revising its FOIA regulation. See 81 FR 90715. This rule makes a technical change to § 2004.6 to align the USTR rule with the statute and Office of Information Policy guidance about the compelling circumstances under which an agency must grant expedited processing. 5 U.S.C. 552(a)(6)(E); https://www.justice.gov/oip/oip-guidance/guidance-agency-foia-regulations. More specifically, USTR is revising the instances in which a requester demonstrates a “compelling need” in § 2004.6(d)(2) to include when USTR determines that a failure to obtain requested records on an expedited basis could reasonably be expected to pose an imminent threat to the life or physical safety of an individual; or with respect to a request made by a person primarily engaged in disseminating information, there is urgency to inform the public concerning actual or alleged Federal Government activity.

II. Regulatory Flexibility Act

USTR has considered the impact of the interim final rule and determined that it is not likely to have a significant economic impact on a substantial number of small business entities because it is applicable only to USTR's internal operations and legal obligations. See 5 U.S.C. 601 et seq.

III. Paperwork Reduction Act

The interim final rule does not contain any information collection requirement that requires the approval of the Office of Management and Budget under the Paperwork Reduction Act (44 U.S.C. 3501 et seq.).

IV. Administrative Procedure Act (APA)

The interim final rule makes a technical, conforming amendment to a procedural rule applicable only to USTR's internal operations and legal obligations. Publication of a proposed rule is not required under 5 U.S.C. 553(b)(3)(A). For these reasons, USTR finds good cause for the rule to become effective upon publication. Because USTR values public input, it will accept comments on the interim final rule for 30 days, and will make changes to the final rule if warranted.

List of Subjects in 15 CFR Part 2004

Administrative practice and procedure, Courts, Disclosure, Exemptions, Freedom of information, Government employees, Privacy, Records, Subpoenas, Testimony.

For the reasons stated in the preamble, USTR is amending chapter XX of title 15 of the Code of Federal Regulations as follows:

PART 2004—DISCLOSURE OF RECORDS AND INFORMATION

1. Add an authority citation for part 2004 to read as follows:

Authority: 19 U.S.C. 2171(e)(3).

Subpart B—Freedom of Information Act Policies and Procedures

2. The authority citation for subpart B of part 2004 continues to read as follows:

Authority: 5 U.S.C. 552; 19 U.S.C. 2171(e)(3); Uniform Freedom of Information Act Fee Schedule and Guidelines, 52 FR 10012, Mar. 27, 1987.

3. Amend § 2004.6 by:

a. Revising paragraphs (d)(2)(i) and (ii); and

b. Removing paragraphs (d)(2)(iii) and (iv).

The revisions read as follows:

§ 2004.6 When will we respond to your FOIA request?

* * * * *

(d) * * *

(2) * * *

(i) Failure to obtain the records on an expedited basis could reasonably be expected to pose an imminent threat to the life or physical safety of an individual; or

(ii) With respect to a request made by a person primarily engaged in disseminating information, there is an urgency to inform the public about a specific actual or alleged Federal Government activity that is the subject of the request or appeal that extends beyond the public's right to know about government activity generally.

* * * * *

Janice Kaye,
Chief FOIA Officer, Office of the United States Trade Representative.

[FR Doc. 2023-15641 Filed 7-24-23; 8:45 am]

BILLING CODE 3390-F3-P